ENVIRONMENTAL PROTECTION AGENCY

[EPA-HQ-OPP-2021-0088; FRL-10022-59]

Receipt of Pesticide Petitions Filed for Residues of Pesticide Chemicals in or on Various Commodities April 2021

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before May 24, 2021.

ADDRESSES: Submit your comments, identified by docket identification (ID) number and the pesticide petition (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Ameded Tolerance Exemptions for Non-Inerts (Except PIPS)

PP 0F8831. (EPA-HQ-OPP-2020-0391). Gowan Company, P.O. Box 5569, Yuma, AZ 85364, requests to amend the tolerance in 40 CFR 180.693 for residues of the herbicide Benzobicyclon in or on rice at 0.15 parts per million (ppm). The high-performance liquid chromatography (HPLC) employing mass spectrometric (MS/MS) detection (LC/MS/MS) is used to measure and evaluate the chemical benzobicyclon. Contact: RD.

B. New Tolerance Exemptions for Inerts (Except PIPS)

PP IN-11490. (EPA-HQ-OPP-2021-0162). Ethox Chemicals, LLC, 1801 Perimeter Road, Greenville, SC 29605, requests to establish an exemption from the requirement of a tolerance for residues oxirane, 2-methyl-, polymer with oxirane, mono-(9Z)-9-octadecanoate, methyl ether, (CAS Re. No. 72283-36-4), with a minimum number average molecular weight of 1200 daltons, when used as an inert ingredient in pesticide formulations under 40 CFR 180.960. The petitioner believes no analytical method is needed because it is not required for an exemption from the requirement of a tolerance Contact: RD.

C. New Tolerance Exemptions for Non-Inerts (Except PIPS)

1. PP 0F8887. (EPA-HQ-OPP-2021-0158). Suterra LLC, 20950 NE Talus Place, Bend, OR 97701, requests to establish an exemption from the requirement of a tolerance in 40 CFR part 180 for residues of thearthropod pheromone mating disruptor (3S, 6R), (3S, 6S)-3-Methyl-6-isopropenyl-9-decen-1-yl acetate in or on raw agricultural commodities. The petitioner believes no analytical method is needed because there are no residues of toxicological concern and because of the request for a tolerance exemption. Contact: BPPD.

2. PP 0F8889. (EPA-HQ-OPP-2021-0226). Elemental Enzymes Ag & Turf LLC, 1685 Galt Industrial Blvd., St. Louis, MO 63132, requests to establish an exemption from the requirement of a tolerance in 40 CFR part 180 for residues of the plant regulator and inducer of local and systemic resistance Fig22-Bt Peptide in or on all agricultural food commodities. The analytical method ultra high-performance liquid chromatography with UV and MS is available to EPA for the detection and measurement of residues of the active ingredient, while the analytical method high performance liquid chromatography with UV is available to EPA for the detection and measurement of residues of the end-use products. Contact: BPPD.

3. PP 0F8893. (EPA-HQ-OPP-2021-0209). Ag Chem Resources, LLC, 10120 Dutch Iris Dr., Bakersfield, CA 93311, requests to establish an exemption from the requirement of a tolerance in 40 CFR part 180 for residues of the nematicide extract of Caesalpinia spinosa in or on raw agricultural products and food products. The petitioner believes no analytical method is needed because of the lack of toxicity demonstrated in the available toxicological data and given that an exemption from the requirement for establishing a tolerance for residues is proposed. Contact: BPPD.

D. Notice of Filing—New Tolerance Exemptions for PIPS

PP 1F8897. (EPA-HQ-OPP-2021-0236). Pioneer Hi-Bred International, Inc., 7100 NW 62nd Ave., P.O. Box 1000, Johnston, IA 50131-1000, requests to establish an exemption from the requirement of a tolerance in 40 CFR part 174 for residues of the plant-incorporated protectant (PIP) Ophioglossum pendulum IPD079Ea protein in or on maize. The petitioner believes no analytical method is needed because an exemption from the requirement of a tolerance without numerical limitation is requested for IPD079Ea protein as expressed in maize. Contact: BPPD.

E. New Tolerances for Inerts

PP 9F8777. EPA-HQ-OPP-2019-0542. Syngenta Crop Protection, LLC, P.O. Box 18300, Greensboro, NC 27419, requests to establish a tolerance in 40 CFR part 180 for residues of the herbicide, Bicyclopyrone, in or on lemongrass, dried at 0.5 ppm; lemongrass, fresh at 0.3 ppm; rosemary, dried at 0.3 ppm; rosemary, fresh at 0.03 ppm; wormwood, dried at 0.09 ppm and wormwood, fresh at 0.05 ppm. The Analytical methods GRM030.05A, GRM030.05B, GRM030.08A is used to measure and evaluate the chemical Bicyclopyrone. Contact: RD.

F. New Tolerances for Non-Inerts

1. PP 9E8798. (EPA-HQ-OPP-2020-0334). Syngenta Crop Protection, 410 Swing Road, Greensboro, NC 27409, requests to establish a tolerance in 40 CFR part 180 for residues of the fungicide, fludioxonil in or on banana at 2.0 ppm. The analytical method AG-597B (high-performance liquid chromatography (HPLC) using Amino column and ultra-violet (UV) detection) is used to measure and evaluate the chemical fludioxonil. Contact: RD.

2. PP 0E8829. (EPA-HQ-OPP-2020-0421). Nichino America, Inc., 4550 Linden Hill Rd., Suite 501, Wilmington, Delaware, 19808, requests to establish a tolerance in 40 CFR part 180 for residues of the insecticide, pyflubumide (, 3'-isobutyl-N-isobutyryl-1,3,5-trimethyl-4'-[2,2,2-trifluoro-1-methoxy-1-(trifluoromethyl)ethyl]pyrazole-4-carboxanilide), in or on the raw agricultural commodity tea, dried at 70 ppm. The QuEChERS and the LC-MS/MS analytical methods are used to measure and evaluate the chemical pyflubumide. Contact: RD

3. PP 0F8868. (EPA-HQ-OPP-2021-0154). Syngenta Crop Protection, LLC, P.O. Box 18300 Greensboro, NC 27419-8300, requests to establish a tolerance in 40 CFR part 180 for inadvertent residues of the cyantraniliprole 3-bromo-1-(3-chloro-2-pyridinyl)-N-[4-cyano-2-methyl-6-[(methylamino)carbonyl] phenyl]-1H-pyrazole-5-carboxamide, in or on sugarcane at 0.01 ppm. The high-pressure liquid chromatography with ESI-MS/MS detection is used to measure and evaluate the chemical cyantraniliprole. Contact: RD

Authority: 21 U.S.C. 346a.

Dated: April 12, 2021.
Delores Barber,
Director, Information Technology and Resource Management Division, Office of Program Support.

[FR Doc. 2021-08335 Filed 4-21-21; 8:45 am]

BILLING CODE 6560-50-P